DEPARTMENT OF EDUCATION

Office of Postsecondary Education; Overview Information; Developing Hispanic-Serving Institutions (HSI) Program; Notice Inviting Applications for New Awards for Fiscal Year (FY) 2006

Catalog of Federal Domestic Assistance (CFDA) Number: 84.031S.

DATES: Applications Available: January 24, 2006.

Deadline for Transmittal of Applications: March 10, 2006.

Deadline for Intergovernmental Review: March 27, 2006.

Eligible Applicants: Institutions of higher education (IHEs) that qualify as eligible HSIs are eligible to apply for new Individual Development Grants and Cooperative Arrangement Development Grants under the HSI Program. To be an eligible HSI, an IHE must—

(1) Be accredited or preaccredited by a nationally recognized accrediting agency or association that the Secretary has determined to be a reliable authority as to the quality of education or training offered;

(2) Be legally authorized by the State in which it is located to be a junior college or to provide an educational program for which it awards a bachelor's degree;

(3) Be designated as an “eligible institution” by demonstrating that it: (A) Has an enrollment of needy students as described in 34 CFR 606.3; and (B) has low average educational and general expenditures per full-time equivalent (FTE) undergraduate student as described in 34 CFR 606.4;

(4) At the time of application, have an enrollment of undergraduate FTE students that is at least 25 percent Hispanic students; and

(5) Provide assurances that not less than 50 percent of its Hispanic students are low-income individuals.

For purposes of making the determinations described in paragraphs (4) and (5) above, IHEs shall use student enrollments for the fall 2005 academic year.

The Notice Inviting Applications for Designation as Eligible Institutions for FY 2006 was published in the Federal Register on December 16, 2005 (70 FR 74781). The HSI eligibility requirements are in 34 CFR 606.2 through 606.5 and can be accessed from the following Web site: http://www.access.gpo.gov/nara/cfr/waisidx_01/34cfr606_01.html.

Relationship Between HSI and Title III, Part A Programs

Note 1: A grantee under the HSI Program, which is authorized by Title V of the Higher Education Act of 1965, as amended (HEA), may not receive a grant under any HEA, Title III, Part A Program. The Title III, Part A Programs include: the Strengthening Institutions Program, the American Indian Tribally Controlled Colleges and Universities Program; and the Alaska Native and Native Hawaiian-Serving Institutions Programs. Further, a current HSI Program grantee may not give up its HSI grant in order to receive a grant under any Title III, Part A Program.

Note 2: An eligible HSI that does not fall within the limitation described in Note 1, i.e., is not a current grantee under the HSI Program, may apply for a FY 2006 grant under all Title III, Part A Programs for which it is eligible, as well as under the HSI Program. However, a successful applicant may receive only one grant.

Note 3: An eligible HSI that previously received a five-year Individual Development Grant under the HSI Program must wait for two years after the date the five-year grant ended, including any time extensions the grant may have received, to apply for another Individual Development Grant under the HSI Program.

Note 4: An eligible HSI that submits more than one application may only be awarded one Individual Development Grant or one Cooperative Arrangement Development Grant in a fiscal year. Furthermore, we will not award a second Cooperative Arrangement Development Grant to an otherwise eligible HSI for the same award year as the institution's existing Cooperative Arrangement Development Grant award.

Estimated Available Funds: $20,433,000.

Estimated Range of Awards: Individual Development Grant: $300,000-$575,000. Cooperative Arrangement Development Grant: $400,000-$700,000.

Estimated Average Size of Awards: Individual Development Grant: $500,000. Cooperative Arrangement Development Grant: $600,000.

Maximum Awards: Individual Development Grant: $575,000 per year; Cooperative Arrangement Development Grant: $700,000 per year.

We will not fund any application at an amount exceeding the maximum amounts specified above for a single budget period of 12 months. We may choose not to further consider or review applications with budgets that exceed the maximum amounts specified above, if we conclude, during our initial review of the application, that the proposed goals and objectives cannot be obtained with the specified maximum amount.

Estimated Number of Awards: Individual Development Awards: 22. Cooperative Arrangement Development Awards: 14.

Note: The Department is not bound by any estimates in this notice. Applicants should periodically check the HSI Program Web site for further information. The address is: http://www.ed.gov/programs/idueshsi/index.html.

Project Period: Up to 60 months.

Full Text of Announcement

I. Funding Opportunity Description

Purpose of Program: The HSI Program provides grants to assist HSIs to expand educational opportunities for, and improve the academic attainment of, Hispanic students. The HSI Program grants also enable HSIs to expand and enhance their academic offerings, program quality, and institutional stability.

Program Authority: 20 U.S.C. 1101-1101d, 1103-1103g.

Applicable Regulations: (a) The Education Department General Administrative Regulations (EDGAR) in 34 CFR parts 74, 75, 77, 79, 81, 82, 84, 85, 86, 97, 98, and 99. (b) The regulations for this program in 34 CFR part 606.

II. Award Information

Type of Award: Discretionary grant. Five-year Individual Development Grants and Five-year Cooperative Arrangement Development Grants will be awarded in FY 2006. Planning grants will not be awarded in FY 2006.

Estimated Available Funds: $20,433,000.

Estimated Range of Awards: Individual Development Grant: $300,000-$575,000. Cooperative Arrangement Development Grant: $400,000-$700,000.

Estimated Average Size of Awards: Individual Development Grant: $500,000. Cooperative Arrangement Development Grant: $600,000.

Maximum Awards: Individual Development Grant: $575,000. Cooperative Arrangement Development Grant: $700,000.

We will not fund any application at an amount exceeding the maximum amounts specified above for a single budget period of 12 months. We may choose not to further consider or review applications with budgets that exceed the maximum amounts specified above, if we conclude, during our initial review of the application, that the proposed goals and objectives cannot be obtained with the specified maximum amount.

Estimated Number of Awards: Individual Development Awards: 22. Cooperative Arrangement Development Awards: 14.

Note: The Department is not bound by any estimates in this notice. Applicants should periodically check the HSI Program Web site for further information. The address is: http://www.ed.gov/programs/idueshsi/index.html.

Project Period: Up to 60 months.

III. Eligibility Information

Eligible Applicants: IHEs that qualify as eligible HSIs are eligible to apply for new Individual Development Grants and Cooperative Arrangement Development Grants under the HSI Program. To be an eligible HSI, an IHE must—

(1) Be accredited or preaccredited by a nationally recognized accrediting agency or association that the Secretary has determined to be a reliable authority as to the quality of education or training offered;

(2) Be legally authorized by the State in which it is located to be a junior college or to provide an educational program for which it awards a bachelor's degree;

(3) Be designated as an “eligible institution” by demonstrating that it: (A) Has an enrollment of needy students as described in 34 CFR 606.3; and (B) has low average educational and general expenditures per FTE undergraduate student as described in 34 CFR 606.4;

(4) At the time of application, have an enrollment of undergraduate FTE students that is at least 25 percent Hispanic students; and

(5) Provide assurances that not less than 50 percent of its Hispanic students are low-income individuals.

For purposes of making the determinations described in paragraphs (4) and (5) above, IHEs shall use student enrollments for the fall 2005 academic year.

The Notice Inviting Applications for Designation as Eligible Institutions for FY 2006 was published in the Federal Register on December 16, 2005 (70 FR 74781). The HSI eligibility requirements are in 34 CFR 606.2 through 606.5 and can be accessed from the following Web site: http://www.access.gpo.gov/nara/cfr/waisidx_01/34cfr606_01.html.

Relationship Between HSI and Title III, Part A Programs

Note 1: A grantee under the HSI Program, which is authorized by Title V of the HEA, may not receive a grant under any HEA, Title III, Part A Program. The Title III, Part A Programs include: the Strengthening Institutions Program; the American Indian Tribally Controlled Colleges and Universities Program; and the Alaska Native and Native Hawaiian-Serving Institutions Programs. Further, a current HSI Program grantee may not give up its HSI grant in order to receive a grant under any Title III, Part A Program.

Note 2: An eligible HSI that does not fall within the limitation described in Note 1, i.e., is not a current grantee under the HSI Program, may apply for a FY 2006 grant under all Title III, Part A Programs for which it is eligible, as well as under the HSI Program. However, a successful applicant may receive only one grant.

Note 3: An eligible HSI that previously received a five-year Individual Development Grant under the HSI Program must wait for two years after the date the five-year grant ended, including any time extensions the grant may have received, to apply for another Individual Development Grant under the HSI Program.

Note 4: An eligible HSI that submits more than one application may only be awarded one Individual Development Grant or one Cooperative Arrangement Development Grant in a fiscal year. Furthermore, we will not award a second Cooperative Arrangement Development Grant to an otherwise eligible HSI for the same award year as the institution's existing Cooperative Arrangement Development Grant award.

2. Cost Sharing or Matching: There are no cost sharing or matching requirements, unless the grantee uses a portion of its grant for establishing or improving an endowment fund. If a grantee uses a portion of its grant for endowment fund purposes, it must match those grant funds with non-Federal funds. (20 U.S.C. 1101c).

IV. Application and Submission Information

1. Address to Request Application Package: J. Alexander Hamilton, U.S. Department of Education, 1990 K Street, NW., 6th Floor, Washington, DC 20006-8513. Telephone: (202) 502-7583 or by e-mail: Josephine.Hamilton@ed.gov

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission:

a. Applicants must provide, as an attachment to the application, the documentation the institution relied upon in determining that, for the fall 2005 academic year, at least 25 percent of the institution's undergraduate FTE students are Hispanic, and at least 50 percent of the enrolled Hispanic students are low-income individuals.

Note: The 25 percent requirement applies only to undergraduate Hispanic students and is calculated based upon FTE students. The 50 percent low-income requirement includes the institution's total enrollment of Hispanic students and is calculated based upon head count. Instructions for formatting and submitting the verification documentation to Grants.gov are in the application package.

b. Additional requirements concerning the content of an application, together with the forms you must submit, are in the application package for this program.

Page Limits: The program narrative (Part III of the application) is where you, the applicant, address the selection criteria that reviewers use to evaluate your application. We have established mandatory page limits for both the Individual Development Grant and the Cooperative Arrangement Development Grant applications. You must limit the section of the narrative that addresses the selection criteria to no more than 50 pages for the Individual Development Grant application and 70 pages for the Cooperative Arrangement Development Grant application, using the following standards:

• A “page” is 8.5″ x 11″, on one side only, with 1 inch margins at the top, bottom, and both sides.

• Double space (no more than three lines per vertical inch) all text in the application narrative, except titles, headings, footnotes, quotations, references, captions and all text in charts, tables, and graphs.

• Use one of the following fonts: Times New Roman, Courier, Courier New, or Arial. Applications submitted in any other font (including Times Roman and Arial Narrow) will not be accepted.

• Use font size 12.

The page limit does not apply to Part I, the application for federal assistance face sheet (SF 424); the supplemental information form required by the Department of Education; Part II, the budget information summary form (ED Form 524); and Part IV, the assurances and certifications. The page limit also does not apply to a table of contents or the program abstract. If you include any attachments or appendices other than those specifically requested, these items will be counted as part of the program narrative (Part III) for purposes of the page limit requirement. You must include your complete response to the selection criteria in the program narrative.

We will reject your application if—

• You apply these standards and exceed the page limit; or

• You apply other standards and exceed the equivalent of the page limit.

3. Submission Dates and Times: Applications Available: January 24, 2006. Deadline for Transmittal of Applications: March 10, 2006.

Applications for grants under this program competition must be submitted electronically using the Grants.gov Apply site (Grants.gov). For information (including dates and times) about how to submit your application electronically or by mail or hand delivery if you qualify for an exception to the electronic submission requirement, please refer to section IV. 6. Other Submission Requirements in this notice.

We do not consider an application that does not comply with the deadline requirements.

Deadline for Intergovernmental Review: March 27, 2006.

4. Intergovernmental Review: This program is subject to Executive Order 12372 and the regulations in 34 CFR part 79. Information about Intergovernmental Review of Federal Programs under Executive Order 12372 is in the application package for this program.

5. Funding Restrictions: We reference the regulations outlining funding restrictions in the Applicable Regulations section of this notice.

• Applicability of Executive Order 13202. Applicants that apply for construction funds under the HSI Program must comply with Executive Order 13202, signed by President Bush on February 17, 2001 and amended on April 6, 2001. This Executive order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive order does not prohibit contractors or subcontractors from voluntarily entering into these agreements. Projects funded under this program that include construction activity will be provided a copy of this Executive order and grantees will be asked to certify that they will adhere to it.

6. Other Submission Requirements: Applications for grants under this program competition must be submitted electronically unless you qualify for an exception to this requirement in accordance with the instructions in this section.

a. Electronic Submission of Applications.

Applications for grants under the HSI Program (CFDA Number 84.031S) must be submitted electronically using the Grants.gov Apply site at: http://www.grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the HSI Program at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this program competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you qualify for an exception to the electronic submission requirement, as described elsewhere in this section, and submit your application in paper format.

• You must submit all documents electronically, including all information typically included on the Application for Federal Education Assistance (SF 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of Technical Issues with the Grants.gov System: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: J. Alexander Hamilton, U.S. Department of Education, 1990 K Street, NW., room 6052, Washington, DC 20006-8513 FAX: (202) 502-7861.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service:

U.S. Department of Education, Application Control Center, Attention: (CFDA Number 84.031S), 400 Maryland Avenue, SW., Washington, DC 20202-4260 or,

By mail through a commercial carrier:

U.S. Department of Education, Application Control Center—Stop 4260, Attention: (CFDA Number 84.031S), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: (CFDA Number 84.031S), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (SF 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this program are in 34 CFR 606.22(a)-(g). Applicants must address each of the following selection criteria (separately for each proposed activity). The total weight of the selection criteria is 100 points; the weight of each criterion is noted in parentheses.

(a) Quality of The Applicant's Comprehensive Development Plan (Total 25 Points).

(b) Quality of Activity Objectives (Total 15 Points).

(c) Quality of Implementation Strategy (Total 20 Points).

(d) Quality of Key Personnel (Total 7 Points).

(e) Quality of Project Management Plan (Total 10 Points).

(f) Quality of Evaluation Plan (Total 15 Points).

(g) Budget (Total 8 Points).

2. Review and Selection Process: Tiebreaker for Development Grants. In tie-breaking situations for development grants described in 34 CFR 606.23(b), the HSI Program regulations require that we award one additional point to an application from an IHE that has an endowment fund for which the market value per FTE student is less than the comparable average per FTE student at a similar type of IHE. We also award one additional point to an application from an IHE that had expenditures for library materials per FTE student that are less than the comparable average per FTE student at a similar type IHE.

For the purpose of these funding considerations, we use 2003-2004 data.

If a tie remains after applying the tiebreaker mechanism above, priority will be given in the case of applicants for: (a) Individual Development Grants to applicants that addressed the statutory priority found in section 511(d) of the HEA; and (b) Cooperative Arrangement Development Grants to applicants in accordance with section 514(b) of the HEA, if the Secretary determines that the cooperative arrangement is geographically and economically sound or will benefit the applicant HSI.

If a tie still remains after applying the additional point(s), and the relevant statutory priority, we will determine the ranking of applicants based on the lowest endowment values per FTE student.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118, 34 CFR 75.720, and in 34 CFR 606.31.

4. Performance Measures: The Secretary has established the following key performance measures for assessing the effectiveness of the HSI Program: (1) The percentage of full-time undergraduate students who were in their first year of postsecondary enrollment in the previous year and are enrolled in the current year at the same institution; (2) The percentage of students enrolled at 4-year HSIs graduating within 6 years of enrollment; and (3) The percentage of students enrolled at 2-year HSIs graduating within 3 years of enrollment.

VII. Agency Contacts

For Further Information Contact: J. Alexander Hamilton, U.S. Department of Education, 1990 K Street, NW., 6th Floor, Washington, DC 20006-8513. Telephone: (202) 502-7583 or by e-mail: Josephine.Hamilton@ed.gov or Carnisia Proctor, Telephone: (202) 502-7606 or by e-mail: Carnisia.Proctor@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 19, 2006.
Sally L. Stroup,
Assistant Secretary for Postsecondary Education.

[FR Doc. E6-829 Filed 1-23-06; 8:45 am]

BILLING CODE 4000-01-P